DEPARTMENT OF ENERGY

Federal Energy Regulatory Commission

Combined Notice of Filings #1

Take notice that the Commission received the following electric rate filings:

Docket Numbers: ER10-3145-008; ER10-3116-008; ER10-3210-008; ER11-2036-008; ER13-1544-005; ER10-3128-008; ER10-1800-009; ER10-3136-008; ER11-2701-010; ER10-1728-008; ER16-930-002.

Applicants: AES Alamitos, LLC, AES Energy Storage, LLC, AES Huntington Beach, L.L.C., AES Laurel Mountain, LLC, AES ES Tait, LLC, AES Redondo Beach, L.L.C., Indianapolis Power & Light Company, Mountain View Power Partners, LLC, Mountain View Power Partners IV, LLC, The Dayton Power and Light Company, AES Ohio Generation, LLC.

Description: Triennial Market Power Analysis for Northeast Region of the AES MBR Affiliates.

Filed Date: 12/21/16.

Accession Number: 20161221-5469.

Comments Due: 5 p.m. ET 2/21/17.

Docket Numbers: ER10-3246-011; ER10-2475-017; ER10-2474-017; ER13-1266-012; ER15-2211-009.

Applicants: PacifiCorp, Nevada Power Company, Sierra Pacific Power Company, CalEnergy, LLC, MidAmerican Energy Services, LLC.

Description: Notice of Non-Material Change in Status of the PacifiCorp, et al.

Filed Date: 12/21/16.

Accession Number: 20161221-5471.

Comments Due: 5 p.m. ET 1/11/17.

Docket Numbers: ER17-236-001.

Applicants: Southwestern Public Service Company.

Description: Tariff Amendment: 12-23-16_ER17-236 Admend to be effective 1/1/2016.

Filed Date: 12/23/16.

Accession Number: 20161223-5096.

Comments Due: 5 p.m. ET 1/13/17.

Docket Numbers: ER17-646-000.

Applicants: Orange and Rockland Utilities, Inc.

Description: § 205(d) Rate Filing: Amendment to Revised Power Supply Agreement to be effective 12/22/2016.

Filed Date: 12/23/16.

Accession Number: 20161223-5006.

Comments Due: 5 p.m. ET 1/13/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 23, 2016.
Nathaniel J. Davis, Sr.,
Deputy Secretary.

[FR Doc. 2016-31657 Filed 12-29-16; 8:45 am]

BILLING CODE 6717-01-P